DEPARTMENT OF AGRICULTURE

Forest Service

RIN 0596-AC02

Directive for Environmental Management Systems

AGENCY: Forest Service, USDA.

ACTION: Notice of issuance of agency final directive.

SUMMARY: The Forest Service is issuing a final directive to Forest Service Manual 1330, Environmental Management Systems (EMS), to provide overall guidance to Forest Service line officers and employees on how to include EMS in carrying out national forest land management planning regulations at 36 CFR part 219, subpart A, published in the Federal Register on January 5, 2005 (70 FR 1023), as it relates to Forest Service units and facilities.

DATES: Final directive number 1300-2006-1 is effective March 3, 2006.

ADDRESSES: The directive is available on the World Wide Web/Internet at http://www.fs.fed.us/im/directives/fsm/1300/1330.doc.

FOR FURTHER INFORMATION CONTACT: Joe Carbone by e-mail jcarbone@fs.fed.us, by phone at 202-205-0884, or by mail at Joe Carbone, USDA Forest Service, Mailstop 1104, EMC, 3 Central, 1400 Independence Avenue, SW., Washington, DC 20050-1104.

SUPPLEMENTARY INFORMATION:

Background

On January 5, 2005, the Department adopted final planning regulations for the National Forest System (NFS) at 36 CFR part 219, subpart A (70 FR 1023). The planning rule provides broad programmatic direction in developing and carrying out land management planning. The planning rule included requirements for EMS. The rule explicitly directs the Chief of the Forest Service to establish planning procedures in the Forest Service directives system (36 CFR 219.1(c)). On March 23, 2005, the Forest Service issued 12 interim directives, including FSM 1330 (EMS), 1900, and 1920 and FSH 1909.12 asking for public comment (70 FR 14637). This notice of issuance involves a final amendment for FSM 1331—Environmental Management Systems, addressing EMS responsibilities under the planning rule, as well as Executive Order 13148. Directives to FSMs 1900 and 1920 and FSH 1909.12, chapters zero code, 10, 20, 30, 40, 50, 60 and 80 were issued on January 31, 2006 (71 FR 124-5153) along with responses to comments on the interim directives, including those for FSM 1330.

The Forest Service directives contain the agency's policies, practices, and procedures and serve as the primary basis for the internal management and control of programs and administrative direction to Forest Service employees. The FSM contains legal authorities, objectives, policies, responsibilities, instructions, and guidance needed on a continuing basis by Forest Service line officers and primary staff to plan and execute programs and activities. The directives for all agency programs are set out on the World Wide Web/Internet at http://www.fs.fed.us/im/directives.

Dated: Februrary 24, 2006.
Dale N. Bosworth,
Chief.

[FR Doc. 06-2022 Filed 3-2-06; 8:45 am]

BILLING CODE 3410-11-P